DEPARTMENT OF COMMERCE

National Oceanic and Atmospheric Administration

RIN 0648-XA268

Western Pacific Fishery Management Council; Public Meeting

AGENCY: National Marine Fisheries Service (NMFS), National Oceanic and Atmospheric Administration (NOAA), Commerce.

ACTION: Notice of public meeting.

SUMMARY: The Western Pacific Fishery Management Council (Council) will hold a meeting of its Sea Turtle Advisory Committee (STAC) in Honolulu, HI.

DATES: The STAC meeting will be held on Wednesday, March 23, 2011, from 8:30 a.m. to 5:30 p.m. and Thursday, March 24, 2011, from 8:30 a.m. to 12:30 p.m.

ADDRESSES: The meeting will be held at the Council Office Conference Room, 1164 Bishop Street, Suite 1400, Honolulu, HI; telephone: (808) 522-8220.

FOR FURTHER INFORMATION CONTACT: Kitty M. Simonds, Executive Director; telephone: (808) 522-8220.

SUPPLEMENTARY INFORMATION: The STAC will review the Council's 2010 sea turtle conservation projects and other relevant activities and may produce recommendations for future program direction.

Agenda

8:30 a.m., Wednesday, March 23, 2011

1. Introduction.

2. Approval of the Agenda.

3. Review of Recommendations from the 6th STAC Meeting.

4. Overview of 2010-11 Council Sea Turtle Program.

5. Update of Sea Turtle Interactions in Hawaii-based Fisheries.

6. Review of 2010 Sea Turtle Projects.

8:30 a.m., Thursday, March 24, 2011

7. Review of 2010 Sea Turtle Projects (Continued).

8. Overview of Agency Activities.

9. Other Projects and Issues of Interest.

10. Recommendations from the STAC.

11. Next Meeting and Meeting Wrap-up.

The order in which agenda items are addressed may change. The Committee will meet as late as necessary to complete scheduled business.

Special Accommodations

The meeting is physically accessible to people with disabilities. Requests for sign language interpretation or other auxiliary aids should be directed to Kitty M. Simonds, (808) 522-8220 (voice) or (808) 522-8226 (fax), at least 5 days prior to the meeting date.

Authority: 16 U.S.C. 1801 et seq.

Dated: March 2, 2011.
Tracey L. Thompson,
Acting Director, Office of Sustainable Fisheries, National Marine Fisheries Service.

[FR Doc. 2011-5027 Filed 3-4-11; 8:45 am]

BILLING CODE 3510-22-P